DEPARTMENT OF HOMELAND SECURITY

Federal Emergency Management Agency

44 CFR Part 67

[Docket ID FEMA-2008-0020]

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground Modified
Unincorporated Areas of Lauderdale County, Alabama
FEMA Docket No.: B-1009
Alabama | Unincorporated Areas of Lauderdale County | Shoal Creek | BFE 520 is at a point of 1435 feet upstream of the confluence of Shoal Creek and Indiancamp Creek | +520
|  |  | BFE 558 is at a point of 27,805 feet upstream of the confluence of Shoal Creek and Butler Creek | +558
Alabama | Unincorporated Areas of Lauderdale County | Tennessee River (Navigation Channel) | BFE 432 is at a point of 5270 feet upstream of the intersection of the Tennessee River and O'Neal Bridge | +432
|  |  | BFE 435 is at a point of 263 feet downstream of Wilson Dam | +435
* National Geodetic Vertical Datum.
+ North American Vertical Datum.
# Depth in feet above ground.
ADDRESSES
Unincorporated Areas of Lauderdale County
Maps are available for inspection at 5100 Hwy 157 N, Florence, AL 35633.

Flooding source(s) | Location of referenced elevation | * Elevation in feet (NGVD) + Elevation in feet (NAVD) # Depth in feet above ground Modified | Communities affected
Lauderdale County, Alabama, and Incorporated Areas
FEMA Docket No.: B-7786
Tennessee River (Navigation Channel) | Approximately 981 feet upstream of the intersection of Sweetwater Creek and XS B of Tennessee River | +432 | City of Florence.
| Approximately 2238 feet upstream of the intersection of Tennessee River and XS D of Tennessee River | +435
* National Geodetic Vertical Datum.
+ North American Vertical Datum.
# Depth in feet above ground.
ADDRESSES
City of Florence
Maps are available for inspection at 110 West College Street, Florence, AL 35630.
Lawrence County, Alabama, and Incorporated Areas
FEMA Docket No.: B-1000
Tennessee River | At confluence of Wilson Lake (Tennessee River) and Town Creek approximately 2.6 miles downstream of Wheeler Dam | +509 | Unincorporated Areas of Lawrence County.
| Just below Wheeler Dam | +511
* National Geodetic Vertical Datum.
+ North American Vertical Datum.
# Depth in feet above ground.
ADDRESSES
Unincorporated Areas of Lawrence County
Maps are available for inspection at 750 Main Street, Moulton, AL 35650.
Miami-Dade County, Florida and Incorporated Areas
Docket No.: FEMA-B-7751
All inland canal and shallow flooding sources | City of Coral Gables | *7-*15 | City of Coral Gables.
All inland canal and shallow flooding sources | Town of Cutler Bay | *7-*9 | Town of Cutler Bay.
All inland canal and shallow flooding sources | City of Doral | *5-*8 | City of Doral.
All inland canal and shallow flooding sources | Village of El Portal | *6 | Village of El Portal.
All inland canal and shallow flooding sources | City of Florida City | *3-*7 | City of Florida City.
All inland canal and shallow flooding sources | City of Hialeah | *5-*9 | City of Hialeah.
All inland canal and shallow flooding sources | City of Hialeah Gardens | *5-*9 | City of Hialeah Gardens.
All inland canal and shallow flooding sources | City of Homestead | *3-*10 | City of Homestead.
All inland canal and shallow flooding sources | Town of Medley | *5-*7 | Town of Medley.
All inland canal and shallow flooding sources | City of Miami | *4-*15 | City of Miami.
All inland canal and shallow flooding sources | Miami-Dade County (Unincorporated Areas) | *3-*21 | Miami-Dade County (Unincorporated Areas).
All inland canal and shallow flooding sources | Village of Miami-Shores | *11 | Village of Miami-Shores.
All inland canal and shallow flooding sources | City of Miami Springs | *6-*7 | City of Miami Springs.
All inland canal and shallow flooding sources | City of North Miami | *12 | City of North Miami.
All inland canal and shallow flooding sources | City of Opa-Locka | *5-*9 | City of Opa-Locka.
All inland canal and shallow flooding sources | Village of Palmetto Bay | *7 | Village of Palmetto Bay.
All inland canal and shallow flooding sources | Village of Pinecrest | *7-*10 | Village of Pinecrest.
All inland canal and shallow flooding sources | City of South Miami | *7-*11 | City of South Miami.
All inland canal and shallow flooding sources | City of Sweetwater | *8 | City of Sweetwater.
All inland canal and shallow flooding sources | Village of Virginia Gardens | *7 | Village of Virginia Gardens.
* National Geodetic Vertical Datum.
+ North American Vertical Datum.
# Depth in feet above ground.
ADDRESSES
City of Coral Gables
Maps are available for inspection at the City of Coral Gables Department of Public Works, 2800 Southwest 72nd Avenue, Coral Gables, Florida.
Town of Cutler Bay
Maps are available for inspection at the Cutler Bay Town Hall, 10720 Caribbean Boulevard, Suite 105, Cutler Bay, Florida.
City of Doral
Maps are available for inspection at the City of Doral Building Department, 8300 Northwest 53rd Street, Suite 200, Doral, Florida.
Village of El Portal
Maps are available for inspection at the El Portal Village Hall, 500 Northeast 87th Street, El Portal, Florida.
City of Florida City
Maps are available for inspection at the Florida City Building and Zoning Department, 404 West Palm Drive, Building 3, Florida City, Florida.
City of Hialeah
Maps are available for inspection at the City of Hialeah Planning and Zoning Department, 501 Palm Avenue, 4th Floor, Hialeah, Florida.
City of Hialeah Gardens
Maps are available for inspection at the Hialeah Gardens City Hall, 10001 Northwest 87th Avenue, Hialeah Gardens, Florida.
City of Homestead
Maps are available for inspection at the Homestead City Hall, 790 North Homestead Boulevard, Homestead, Florida.
Town of Medley
Maps are available for inspection at the Medley Town Hall, 7331 Northwest 74th Street, Medley, Florida.
City of Miami
Maps are available for inspection at the City of Miami Fire/Emergency Management Department, Miami Riverside Center, 444 Southwest 2nd Avenue, 10th Floor, Miami, Florida.
Miami-Dade County Unincorporated Areas
Maps are available for inspection at the Miami-Dade County Department of Environmental Resource Management, 701 Northwest 1st Court, 4th Floor, Miami, Florida.
Village of Miami-Shores
Maps are available for inspection at the Miami Shores Village Hall, 10050 Northeast 2nd Avenue, Miami Shores, Florida.
City of Miami Springs
Maps are available for inspection at the Miami Springs City Hall, 201 Westward Drive, Miami Springs, Florida.
City of North Miami
Maps are available for inspection at the North Miami City Hall, 776 Northeast 125th Street, North Miami, Florida.
City of Opa-Locka
Maps are available for inspection at the Opa-Locka City Hall, 780 Fisherman Street, Suite 335, Opa-Locka, Florida.
Village of Palmetto Bay
Maps are available for inspection at the Palmetto Bay Village Hall, 8950 Southwest 152nd Street, Palmetto Bay, Florida.
Village of Pinecrest
Maps are available for inspection at the Pinecrest Village Hall, 12645 Pinecrest Parkway, Pinecrest, Florida.
City of South Miami
Maps are available for inspection at the South Miami City Hall, 6130 Sunset Drive, South Miami, Florida.
City of Sweetwater
Maps are available for inspection at the Sweetwater City Hall, 500 Southwest 109th Avenue, Sweetwater, Florida.
Village of Virginia Gardens
Maps are available for inspection at the Virginia Gardens Village Hall, 6498 Northwest 38th Terrace, Virginia Gardens, Florida.
Catoosa County, Georgia, and Incorporated Areas
FEMA Docket No.: B-7792
Hurricane Creek | Approximately 660 feet downstream of Cherokee Valley Road | +824 | Unincorporated Areas of Catoosa County.
| At confluence of Johnson Branch | +825
Johnson Branch | At confluence with Hurricane Creek | +825 | Unincorporated Areas of Catoosa County.
| Approximately 840 feet upstream of confluence with Hurricane Creek | +827
Tributary No. 1 to Black Branch | Approximately 600 feet upstream of Elaine Circle | +715 | City of Fort Oglethorpe.
| Approximately 750 feet upstream of Elaine Circle | +716
* National Geodetic Vertical Datum.
+ North American Vertical Datum.
# Depth in feet above ground.
ADDRESSES
City of Fort Oglethorpe
Maps are available for inspection at City Hall, 500 City Hall Drive, Fort Oglethorpe, GA 30747.
Unincorporated Areas of Catoosa County
Maps are available for inspection at 800 Lafayette Street, Ringgold, GA 30736.
Nassau County, New York and Incorporated Areas
Docket No.: FEMA-B-1000
Atlantic Ocean | Approximately 100 feet north of the intersection of Washington Boulevard and West Bay Drive | +9 | Town of Oyster Bay, City of Long Beach, Town of Hempstead, Village of Atlantic Beach.
| Approximately 1,500 feet south of the Jones Beach Causeway and Ocean Parkway traffic circle | +22
Baldwin Bay | At the intersection of Eastern Parkway and South Drive | +8 | Town of Hempstead, Village of Freeport.
| Approximately 1,100 feet east of the intersection of Milburn Avenue and Mildred Drive | +11
Brosewere Bay | At the intersection of Seawane Place and Seawane Drive | +9 | Town of Hempstead, Village of Hewlett Bay Park, Village of Hewlett Harbor, Village of Hewlett Neck, Village of Lawrence, Village of Woodsburgh.
| Approximately 600 feet south of the intersection of Bay Drive and Hickory Road | +13
Cold Spring Harbor | At the end of Laurelton Beach Road | +9 | Village of Cove Neck, Town of Oyster Bay, Village of Laurel Hollow.
| Approximately 1,200 feet east of the intersection of Ridge Road and Laurel Hollow Road | +24
East Bay | At the intersection of Shore Road and Horace Court | +7 | Town of Hempstead.
| Approximately 200 feet south of the end of Bay Drive | +11
Head of Bay | At the intersection of Bayswater Boulevard and Walnut Road | +11 | Town of Hempstead, Village of Cedarhurst, Village of Valley Stream.
| At the intersection of Peninsula Boulevard and Longacre Avenue | +11
Hempstead Harbor | Approximately 175 feet north of the intersection of Lumber Road and Old Northern Boulevard | +11 | Town of Hempstead, City of Glen Cove, Town of North Hempstead, Town of Oyster Bay, Village of Flower Hill, Village of Roslyn, Village of Roslyn Harbor, Village of Sands Point, Village of Sea Cliff.
| Approximately 500 feet east of the intersection of Forest Drive and Lillian Court | +23
Hewlett Bay (including Mill River, Powell Creek, Rockaway Creek) | At the intersection of Wateredge, Azure Place and Heather Lane | +9 | Town of Hempstead, Village of East Rockaway, Village of Hewlett Harbor, Village of Island Park, Village of Lyn Brook, Village of Rockville Centre.
| Approximately 500 feet east of the intersection of Harbor Road and Channel Drive | +12
Little Neck Bay | At the end of Pine Drive | +10 | Village of Great Neck Estates, Town of North Hempstead, Village of Kings Point, Village of Saddle Rock.
| Approximately 500 feet west of the intersection of Greenleaf Hill Road and Grist Mill Lane | +25
Long Island Sound | At the end of Bayville Avenue | #1 | Town of Oyster Bay, City of Glen Cove, Town of North Hempstead, Village of Bayville, Village of Centre Island, Village of Great Neck, Village of Great Neck Estates, Village of Kings Point, Village of Lattingtown, Village of Saddle Rock, Village of Sands Point.
| Between Valley Road and Greenwich Avenue | #2
| At the intersection of Bayville Avenue and Adams Avenue | +9
| At the end of Kings Point Road Extended | +27
Manhassatt Bay | At the intersection of Mill Pond and Pleasant Avenue | +11 | Town of North Hempstead, Village of Baxter Estates, Village of Great Neck, Village of Kensington, Village of Kings Point, Village of Manorhaven, Village of Plandome, Village of Plandome Heights, Village of Port Washington North, Village of Sands Point, Village of Thomaston.
| At the end of Dock Lane Extended | +23
Middle Bay | At the intersection of Lawson Boulevard and Windsor Parkway | +8 | Town of Hempstead, Village of Freeport.
| Approximately 1,400 feet southwest of the intersection of Mildred Drive and Bertha Drive | +13
Motts Creek | At a point approximately 1,234 feet downstream of Cochran Place | +11 | Village of Valley Stream.
| At a point approximately 40 feet downstream of Rockaway Avenue | +11
Oyster Bay | At the intersection of Maravilla Terrace and Miravista Road | +9 | Village of Mill Neck, Town of Oyster Bay, Village of Bayville, Village of Centre Island, Village of Cove Neck, Village of Oyster Bay Cove.
| Approximately 1,500 feet northeast of the intersection of Seawanhaka Road and Montecito Drive | +17
Oyster Bay Harbor | Approximately 1,000 feet south of the intersection of Centre Island Road and Suzanne Drive | #1 | Village of Centre Island.
Reynolds Channel | Approximately 200 feet east of the intersection of Fitzroy Place and Baker Court | +8 | Village of Lawrence, City of Long Beach, Town of Hempstead, Village of Atlantic Beach, Village of Island Park.
| Approximately 1,300 feet north of the intersection of Park Avenue and Ohio Avenue | +13
South Oyster Bay | At the intersection of Greatwater Avenue and Seagull Place | +7 | Town of Oyster Bay, Town of Hempstead, Village of Massapequa Park.
| Approximately 200 feet east of the intersection of Bayview Place and Ocean Avenue | +11
Valley Stream | At a point approximately 95 feet downstream of Central Avenue | +11 | Village of Valley Stream.
| At Sunrise Highway | +11
Wreck Lead Channel | At the intersection of Lancaster Road and Radcliffe Road | +8 | Town of Hempstead, City of Long Beach, Village of Island Park.
| Approximately 500 feet southwest of the intersection of Brighton Boulevard and Island Parkway | +11
* National Geodetic Vertical Datum.
+ North American Vertical Datum.
# Depth in feet above ground.
ADDRESSES
City of Glen Cove
Maps are available for inspection at Glen Cove City Hall, 9 Glen Street, Glen Cove, New York.
City of Long Beach
Maps are available for inspection at Long Beach City Hall, 1 West Chester Street, Long Beach, New York.
Town of Hempstead
Maps are available for inspection at Hempstead Town Hall, One Washington Street, Hempstead, New York.
Town of North Hempstead
Maps are available for inspection at Town of North Hempstead Department of Planning and Environmental Conservation, 210 Plandome Road, Manhasset, New York.
Town of Oyster Bay
Maps are available for inspection at Oyster Bay Town Hall North, 74 Audry Avenue, Oyster Bay, New York.
Village of Atlantic Beach
Maps are available for inspection at Atlantic Beach Village Hall, 65 The Plaza, Atlantic Beach, New York.
Village of Baxter Estates
Maps are available for inspection at Baxter Estates Village Hall, 2 Harbor Road, Port Washington, New York.
Village of Bayville
Maps are available for inspection at Bayville Village Hall, 34 School Street, Bayville, New York.
Village of Cedarhurst
Maps are available for inspection at Cedarhurst Village Hall, 200 Cedarhurst Avenue, Cedarhurst, New York.
Village of Centre Island
Maps are available for inspection at Centre Island Village Hall, 303 Centre Island Road, Oyster Bay, New York.
Village of Cove Neck
Maps are available for inspection at Cove Neck Village Attorney's Office, Humes & Wagner, LLP, 147 Forest Avenue, Locust Valley, New York.
Village of East Rockaway
Maps are available for inspection at East Rockaway Village Hall, 376 Atlantic Avenue, East Rockaway, New York.
Village of Flower Hill
Maps are available for inspection at Flower Hill Village Hall, 1 Bonnie Heights Road, Manhasset, New York.
Village of Freeport
Maps are available for inspection at Freeport Village Hall, 46 North Ocean Avenue, Freeport, New York.
Village of Great Neck
Maps are available for inspection at Great Neck Village Hall, 61 Baker Mill Road, Great Neck, New York.
Village of Great Neck Estates
Maps are available for inspection at Great Neck Village Hall, 4 Gateway Drive, Great Neck, New York.
Village of Hewlett Bay Park
Maps are available for inspection at Hewlett Bay Park Village Hall, 30 Piermont Avenue, 11557, New York.
Village of Hewlett Harbor
Maps are available for inspection at Hewlett Harbor Village Hall, 449 Pepperidge Road, Hewlett, New York.
Village of Hewlett Neck
Maps are available for inspection at Hewlett Neck Village Hall, 30 Piermont Avenue, Hewlett, New York.
Village of Island Park
Maps are available for inspection at Island Park Village Hall, 127 Long Beach Road, Island Park, New York.
Village of Kensington
Maps are available for inspection at Kensington Village Hall, 2 Nassau Drive, Great Neck, New York.
Village of Kings Point
Maps are available for inspection at Kings Point Village Hall, 32 Steppingstone Lane, Kings Point, New York.
Village of Lattingtown
Maps are available for inspection at Lattingtown Village Hall, 299 Lattingtown Road, Lattingtown, New York.
Village of Laurel Hollow
Maps are available for inspection at Laurel Hollow Village Hall, 1492 Laurel Hollow Road, Laurel Hollow, New York.
Village of Lawrence
Maps are available for inspection at Lawrence Village Hall, 196 Central Avenue, Lawrence, New York.
Village of Lyn Brook
Maps are available for inspection at Lynbrook Village Hall, 1 Columbus Drive, Lynbrook, New York.
Village of Manorhaven
Maps are available for inspection at Manorhaven Village Hall, 33 Manorhaven Boulevard, Manorhaven, New York.
Village of Massapequa Park
Maps are available for inspection at Massapequa Park Village Hall, 151 Front Street, Massapequa, New York.
Village of Mill Neck
Maps are available for inspection at Mill Neck Village Hall, 32 Frost Mill Road, Mill Neck, New York.
Village of Oyster Bay Cove
Maps are available for inspection at Oyster Bay Cove Village Hall, #25B-Route 25A, Oyster Bay, New York.
Village of Plandome
Maps are available for inspection at Plandome Village Hall, 65 South Drive, Plandome, New York.
Village of Plandome Heights
Maps are available for inspection at Plandome Heights Village Hall, 37 Orchard Street, Plandome Heights, New York.
Village of Port Washington North
Maps are available for inspection at Port Washington North Village Hall, 71 Old Shore Road, Port Washington, New York.
Village of Rockville Centre
Maps are available for inspection at Rockville Centre Village Hall, 1 College Place, Rockville Centre, New York.
Village of Roslyn
Maps are available for inspection at Roslyn Village Hall, 1200 Old Northern Boulevard, Roslyn, New York.
Village of Roslyn Harbor
Maps are available for inspection at Roslyn Harbor Village Hall, 500 Mottscove Road, Roslyn Harbor, New York.
Village of Saddle Rock
Maps are available for inspection at Saddle Rock Village Hall, 18 Masefield Way, Saddle Rock, New York.
Village of Sands Point
Maps are available for inspection at Sands Point Village Hall, 26 Tibbits Lane, Port Washington, New York.
Village of Sea Cliff
Maps are available for inspection at Sea Cliff Village Hall, 300 Sea Cliff Avenue, Sea Cliff, New York.
Village of Thomaston
Maps are available for inspection at Thomaston Village Hall, 100 East Shore Road, Great Neck, New York.
Village of Valley Stream
Maps are available for inspection at Valley Stream Village Hall, 123 South Central Avenue, Valley Stream, New York.
Village of Woodsburgh
Maps are available for inspection at Woodsburgh Village Hall, 30 Piermont Avenue, Hewlett, New York.
Oconee County, South Carolina, and Incorporated Areas
FEMA Docket No.: B-7792
Barton Creek | At the confluence with Tugaloo River | +670 | Unincorporated Areas of Oconee County.
| Approximately 1,540 feet upstream of Barton Creek Road | +708
Beaverdam Creek | At Oconee/Pickens county boundary | +672 | Unincorporated Areas of Oconee County.
| Approximately 5,500 feet upstream of State Highway 59 | +808
Beaverdam Creek Tributary 3 | At the confluence with Beaverdam Creek | +677 | Unincorporated Areas of Oconee County.
| Approximately 5,500 feet upstream of the confluence with Beaverdam Creek | +700
Cane Creek | Approximately 1,100 feet upstream of the confluence with Little Cane Creek | +804 | Unincorporated Areas of Oconee County, Town of Walhalla, Town of West Union.
| Approximately 2,460 feet upstream of Rocky Knoll Road | +966
Choestoea Creek | At the confluence with Tugaloo River | +666 | Unincorporated Areas of Oconee County.
| Approximately 4,370 feet upstream of the confluence with Choestoea Creek Tributary 9 | +744
Cleveland Creek | At the confluence with Beaverdam Creek | +676 | Unincorporated Areas of Oconee County.
| Approximately 1.5 miles upstream of Feltman Road | +740
Colonels Fork Creek | At the confluence with Conecross Creek | +772 | Unincorporated Areas of Oconee County.
| Approximately 1,670 feet upstream of Bennett Road | +813
Conecross Creek | Approximately 2.2 miles downstream of Tokeena Road | +678 | Unincorporated Areas of Oconee County, City of Seneca.
| Approximately 2,630 feet upstream of Conecross Farm Road | +708
Conecross Tributary 1 | Approximately 2.7 miles upstream of the Oconee/Anderson county boundary | +665 | Unincorporated Areas of Oconee County.
| Approximately 3.4 miles upstream of the Oconee/Anderson county boundary | +708
Conecross Tributary 2 | At the confluence with Conecross Creek | +784 | Unincorporated Areas of Oconee County, Town of Walhalla.
| Approximately 2,420 feet upstream of Bear Swamp Road | +833
Conecross Tributary 3 | At the confluence with Conecross Creek | +756 | Unincorporated Areas of Oconee County.
| Approximately 850 feet upstream of State Highway 11 | +780
Cornhouse Creek | Approximately 1,610 feet downstream of Stamp Creek Road | +813 | Unincorporated Areas of Oconee County.
| Approximately 2,195 feet upstream of Stamp Creek Road | +819
Fair Play Creek | At the confluence with Tugaloo River | +665 | Unincorporated Areas of Oconee County.
| Approximately 3,200 feet downstream of Rock Creek Road | +665
Fall Creek | Approximately 1,830 feet downstream of Cliffs South Parkway | +795 | Unincorporated Areas of Oconee County.
| Approximately 935 feet downstream of Cliffs Cart Path Drive | +858
Hartwell Lake Tributary 1 | Approximately 360 feet downstream of Martin Creek Road | +665 | Unincorporated Areas of Oconee County.
| Approximately 1,850 feet upstream of Martin Creek Road | +672
Hartwell Lake Tributary 2 | At the confluence with Hartwell Lake | +665 | Unincorporated Areas of Oconee County.
| Approximately 140 feet downstream of Sunshine Road | +827
Hartwell Lake Tributary 3 | At the confluence with Hartwell Lake | +665 | Unincorporated Areas of Oconee County.
| Approximately 185 feet upstream of Rays Road | +859
Keowee River 2 Tributary 7 | Approximately 1,295 feet downstream of Maple Avenue | +810 | City of Seneca.
| Approximately 2,090 feet upstream of Maple Avenue | +877
Keowee River 2 | At the confluence with Lake Keowee | +800 | City of Seneca.
Tributary 7 Tributary 1 | Approximately 2,310 feet upstream of Seneca Drive | +827
Keowee River 2 | At the confluence with Lake Keowee | +800 | City of Seneca.
Tributary 7 Tributary 1 | Approximately 65 feet upstream of North Pine Square | +870
Keowee River 2 | At the confluence with Lake Keowee | +800 | Unincorporated Areas of Oconee County.
Tributary 7 Tributary 1 Tributary 2 | Approximately 1.5 mile upstream of the confluence with Lake Keowee | +824
Little Beaverdam Creek | At the Oconee/Pickens county boundary | +692 | Unincorporated Areas of Oconee County.
| Approximately 260 feet upstream of Donald Road | +771
Little Beaverdam Creek Tributary 1 | At the Oconee/Pickens county boundary | +695 | Unincorporated Areas of Oconee County.
| Approximately 3,550 feet upstream of the Oconee/Pickens county boundary | +708
Little Cane Creek | Approximately 5,000 feet downstream of Pickens Highway | +805 | Unincorporated Areas of Oconee County.
| Approximately 1,240 feet upstream of Pickens Highway | +902
Little Choestoea Creek | Approximately 1 mile dowstream of Little Choestoea Road | +670 | Unincorporated Areas of Oconee County.
| Approximately 1,570 feet downstream of Mount Pleasant Road | +706
Martin Creek | Approximately 4,920 feet downstream of the confluence with Martin Creek Tributary 3 | +666 | City of Seneca, Unincorporated Areas of Oconee County.
| Approximately 2,560 feet upstream of South 6th Square | +891
Martin Creek Tributary 1 | At the confluence with Martin Creek | +822 | City of Seneca, Unincorporated Areas of Oconee County.
| Approximately 140 feet upstream of South 6th Square | +906
Martin Creek Tributary 2 | At the confluence with Martin Creek | +717 | Unincorporated Areas of Oconee County.
| Approximately 1,125 feet upstream of Owens Road | +875
Martin Creek Tributary 3 | At the confluence with Martin Creek | +715 | Unincorporated Areas of Oconee County.
| Approximately 2,690 feet upstream of Martin Creek Tributary 6 | +832
Martin Creek Tributary 6 | At the confluence with Martin Creek Tributary 3 | +740 | Unincorporated Areas of Oconee County.
| Approximately 2,320 feet upstream of Blue Sky Boulevard | +864
McKinneys Creek | At the confluence with Keowee River | +800 | Unincorporated Areas of Oconee County.
| Approximately 1.9 mile upstream from the confluence of Keowee River | +809
Mud Creek | At the confluence with Beaverdam Creek | +695 | Unincorporated Areas of Oconee County.
| Approximately 1.2 miles upstream of Cedar Lane Road | +846
Mud Creek Tributary 1 | At the confluence of Mud Creek | +695 | Unincorporated Areas of Oconee County.
| Approximately 630 feet upstream of Cody Road | +728
Perkins Creek Tributary 1 | At the confluence of Perkins Creek Tributary | +833 | City of Seneca, Unincorporated Areas of Oconee County.
Tributary 1 | Approximately 1,715 feet upstream of Rolling Hills rive | +889
Perkins Creek Tributary 1 | At the confluence of Perkins Creek Tributary 1 | +786 | Unincorporated Areas of Oconee County, City of Seneca.
Tributary 2 | Approximately 2,130 feet upstream of Dalton Road | +847
Perkins Creek Tributary 1, Tributary 2 | At the confluence with Perkins Creek Tributary 1 Tributary 2 | +812 | City of Seneca.
Tributary 1 | Just downstream of W. South 6th Square | +897
Perkins Creek Tributary 1 | At the confluence of Perkins Creek Tributary 1 | +801 | City of Seneca, Unincorporated Areas of Oconee County.
Tributary 3 | Approximately 450 feet upstream of Emaerald Road | +878
Richland Creek | At the confluence of Conecross Creek | +758 | Unincorporated Areas of Oconee County.
| Approximately 3,400 feet upstream of Bountyland Road | +824
Seneca Creek | Just upstream of Davis Creek Road | +665 | Unincorporated Areas of Oconee County, City of Seneca.
| Approximately 3,100 feet upstream of Meadowbrook Drive | +878
Seneca Creek Tributary 1 | At the confluence of Seneca Creek | +667 | Unincorporated Areas of Oconee County.
| Approximately 1.1 miles upstream of the confluence of Seneca Creek | +745
Shiloh Branch | Approximately 980 feet upstream of Seneca Creek Road | +665 | Unincorporated Areas of Oconee County.
| Approximately 1.5 miles upstream of Seneca Creek Road | +687
Snow Creek | Approximately 690 feet downstream of Sitton Shoals Road | +665 | Unincorporated Areas of Oconee County.
| Approximately 290 feet upstream of Snow Creek Road | +789
Speeds Creek | At the confluence of Lake Hartwell | +665 | Unincorporated Areas of Oconee County.
| Approximately 3,630 feet upstream of Wells Highway | +831
Tugaloo River | Approximately 2.4 miles downstream of Interstate 85 | +665 | Unincorporated Areas of Oconee County.
| Approximately 3,550 feet upstream of the confluence of Battle Creek | +896
* National Geodetic Vertical Datum.
+ North American Vertical Datum.
# Depth in feet above ground.
ADDRESSES
City of Seneca
Maps are available for inspection at Seneca City Administrator, 221 East North First Street, Seneca, SC 29679.
Town of Walhalla
Maps are available for inspection at City of Walhalla City Administrator, 206 North Church Street, Walhalla, SC 29679.
Town of West Union
Maps are available for inspection at 1442 West Main Street, West Union, SC 29696.
Unincorporated Areas of Oconee County
Maps are available for inspection at Oconee County County Administrator, 415 South Pine Street, Walhalla, SC 29691.

(Catalog of Federal Domestic Assistance No. 97.022, “Flood Insurance.”)

Dated: March 27, 2009.
Michael K. Buckley,
Acting Assistant Administrator, Mitigation Directorate, Department of Homeland Security, Federal Emergency Management Agency.

[FR Doc. E9-8366 Filed 4-10-09; 8:45 am]

BILLING CODE 9110-12-P